OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 213.103.

FOR FURTHER INFORMATION CONTACT: Roland Edwards, Executive Resources Services Group, Center for Performance Management Systems and Evaluation, Division for Human Capital Leadership and Merit System Accountability, 202-606-2246.

SUPPLEMENTARY INFORMATION: Appearing in the listing below are the individual authorities established under Schedules A, B, and C between October 1, 2009 and October 31, 2009.These notices are published monthly in the Federal Register at www.gpoaccess.gov/fr/. A consolidated listing of all authorities as of June 30 is also published each year. The following Schedules are not codified in the code of Federal Regulations. These are agency specific exceptions.

Schedule A

No Schedule A authorities to report during October 2009.

Schedule B

No Schedule B authorities to report during October 2009.

Schedule C

The following Schedule C appointments were approved during October 2009.

Office of Management and Budget

BOGS01019 Confidential Assistant to the Associate Director for Performance Management. Effective October 23, 2009.

Office of National Drug Control Policy

QQGS90010 Senior Policy Advisor to the Director. Effective October 2, 2009.

Office of Science and Technology Policy

TSGS09005 Confidential Assistant to the Associate Director, Technology. Effective October 16, 2009.

Department of State

DSGS70053 Legislative Liaison Specialist to the Assistant Secretary for Near Eastern and South Asian Affairs. Effective October 6, 2009.

DSGS69922 Staff Assistant to the Director, Policy Planning Staff. Effective October 27, 2009.

DSGS69950 Staff Assistant to the Secretary of State. Effective October 27, 2009.

DSGS69924 Program Assistant, Visits to the Chief of Protocol. Effective October 30, 2009.

DSGS69926 Staff Assistant to the Assistant Secretary. Effective October 30, 2009.

DSGS69984 Public Affairs Specialist for Public Affairs. Effective October 30, 2009.

Department of the Treasury

DYGS00448 Confidential Assistant to the Senior Advisor. Effective October 13, 2009.

Department of Defense

DDGS17259 Special Assistant to the Principal Deputy Assistant Secretary of Defense for Legislative Affairs. Effective October 9, 2009.

DDGS17260 Special Assistant to the Principal Deputy Assistant Secretary of Defense for Legislative Affairs. Effective October 21, 2009.

DDGS17261 Speechwriter to the Principal Deputy Assistant Secretary of Defense for Public Affairs. Effective October 26, 2009.

Department of the Navy

DNGS09680 Special Assistant to the Secretary of the Navy. Effective October 21, 2009.

Department of the Air Force

DFGS60021 Special Assistant, Financial Administration and Programs to the Assistant Secretary for Financial Management and Comptroller. Effective October 21, 2009.

Department of Justice

DJGS00527 Counsel to the Assistant Attorney General. Effective October 21, 2009.

DJGS00548 Counsel to the Assistant Attorney General. Effective October 26, 2009.

DJGS00549 Counsel to the Assistant Attorney General. Effective October 26, 2009.

Department of Homeland Security

DMGS00646 Assistant Press Secretary. Effective October 5, 2009.

DMGS00726 Chief of Staff to the Assistant Secretary for Policy. Effective October 13, 2009.

DMGS00838 Business Liaison to the Assistant Secretary for the Private Sector. Effective October 21, 2009.

DMGS00839 Director of Communications to the Assistant Secretary for Immigration and Customs Enforcement. Effective October 21, 2009.

Department of the Interior

DIGS60134 Chief, Congressional and Legislative Affairs Office to the Deputy Commissioner. Effective October 23, 2009.

Department of Commerce

DCGS00262 Confidential Assistant to the Chief of Staff for International Trade Administration. Effective October 2, 2009.

DCGS00547 Special Assistant to the Under Secretary of Commerce for Intellectual Property and Director of the US Patent and Trademark Office. Effective October 2, 2009.

DCGS60163 Special Advisor to the Assistant Secretary for Market Access and Compliance. Effective October 2, 2009.

DCGS00025 Associate Director of Legislative Affairs to the Director, Office of Legislative Affairs. Effective October 6, 2009.

DCGS00072 Chief of Staff to the Assistant Secretary for Economic Development. Effective October 15, 2009.

DCGS00467 Senior Advisor and Director of Strategic Initiatives to the Assistant Secretary for Economic Development. Effective October 15, 2009.

DCGS00662 Press Secretary to the Chief of Staff for the National Telecommunications and Information Administration. Effective October 15, 2009.

Department of Labor

DLGS60242 Policy Advisor to the Deputy Assistant Secretary. Effective October 1, 2009.

DLGS60138 Special Assistant to the Deputy Secretary of Labor. Effective October 9, 2009.

DLGS60234 Policy Advisor to the Deputy Assistant Secretary. Effective October 14, 2009.

DLGS60099 Special Assistant to the Assistant Secretary for Employment and Training. Effective October 15, 2009.

DLGS60257 Senior Legislative Officer to the Assistant Secretary for Congressional and Intergovernmental Affairs. Effective October 15, 2009.

DLGS60015 Legislative Assistant to the Assistant Secretary for Congressional and Intergovernmental Affairs. Effective October 16, 2009.

DLGS60145 Legislative Assistant to the Assistant Secretary for Congressional and Intergovernmental Affairs. Effective October 16, 2009.

DLGS60123 Special Assistant to the Deputy Under Secretary for International Affairs. Effective October 22, 2009.

DLGS60222 Staff Assistant to the Deputy Under Secretary for International Affairs. Effective October 22, 2009.

DLGS60177 Special Assistant to the Assistant Secretary for Employee Benefits Security. Effective October 29, 2009.

Department of Health and Human Services

DHGS60035 Confidential Assistant to the Administrator, Centers for Medicare and Medicaid Services. Effective October 5, 2009.

DHGS60166 Press Secretary to the Deputy Assistant Secretary for Public Affairs. Effective October 5, 2009.

DHGS60027 Deputy Director to the Director of Scheduling and Advance. Effective October 26, 2009.

Department of Education

DBGS00278 Special Assistant to the Deputy Assistant Secretary. Effective October 6, 2009.

DBGS00630 Special Assistant to the Assistant Deputy Secretary for Innovation and Improvement. Effective October 6, 2009.

DBGS00367 Special Assistant to the Assistant Deputy Secretary for Innovation and Improvement. Effective October 9, 2009.

DBGS00211 Special Assistant to the Assistant Secretary for Planning, Evaluation, and Policy Development. Effective October 15, 2009.

DBGS00563 Confidential Assistant to the Assistant Secretary for Elementary and Secondary Education. Effective October 15, 2009.

DBGS00032 Confidential Assistant to the Deputy Chief of Staff for Strategy. Effective October 20, 2009.

DBGS00072 Special Assistant to the Director, Scheduling and Advance Staff. Effective October 20, 2009.

DBGS00685 Deputy Assistant Secretary for International and Foreign Language Education to the Assistant Secretary for Postsecondary Education. Effective October 20, 2009.

DBGS00484 Deputy Assistant Secretary for Rural Outreach to the Assistant Secretary, Office of Communications and Outreach. Effective October 27, 2009.

DBGS00219 Special Assistant to the Assistant Secretary, Office of Communications and Outreach. Effective October 29, 2009.

Environmental Protection Agency

EPGS10001 Senior Counsel to the Assistant Administrator for Air and Radiation. Effective October 9, 2009.

Federal Communications Commission

FCGS90146 Special Assistant to the Director, Office of Strategic Planning and Policy Analysis. Effective October 6, 2009.

Department of Veterans Affairs

DVGS60051 Legislative Assistant to the Assistant Secretary for Congressional and Legislative

Affairs. Effective October 2, 2009.

Department of Energy

DEGS00772 Deputy Chief of Staff to the Chief of Staff. Effective October 1, 2009.

DEGS00773 Special Assistant to the Assistant Secretary of Energy. Effective October 1, 2009.

DEGS00774 Senior Advisor to the Assistant Secretary of Energy. Effective October 1, 2009.

DEGS00775 Staff Assistant to the Chief of Staff. Effective October 8, 2009.

DEGS00776 Senior Advisor to the Principal Deputy Assistant Secretary. Effective October 27, 2009.

Federal Energy Regulatory Commission

DRGS00028 Director, Congressional and Intergovernmental Affairs Division. Effective October 29, 2009.

Small Business Administration

SBGS00690 Deputy Assistant Administrator for Congressional and Legislative Affairs to the Chief of Staff. Effective October 29, 2009.

SBGS00689 Press Assistant to the Assistant Administrator, Office of Communications and Public Liaison. Effective October 30, 2009.

General Services Administration

GSGS01433 Public Affairs Specialist to the Deputy Associate Administrator for Communications and Marketing. Effective October 8, 2009.

GSGS01425 Regional Administrator to the Senior Counselor. Effective October 22, 2009.

GSGS01426 Regional Administrator to the Senior Counselor. Effective October 22, 2009.

National Aeronautics and Space Administration

NNGS03296 Special Assistant (Scheduling) to the Chief of Staff. Effective October 14, 2009.

National Credit Union Administration

CUOT01373 Staff Assistant to the Chairman. Effective October 21, 2009.

Commodity Futures Trading Commission

CTOT00086 Special Assistant to a Commissioner. Effective October 30, 2009.

National Endowment for the Humanities

NHGS60075 Director of Communications to the Deputy Chairman. Effective October 6, 2009.

NHGS60066 Executive Assistant to the Chairman. Effective October 27, 2009.

Department of Transportation

DTGS60173 Director of Congressional Affairs to the Administrator. Effective October 5, 2009.

National Transportation Safety Board

TBGS71538 Special Assistant to a Member. Effective October 13, 2009.

Authority: 5 U.S.C. 3301 and 3302; E.O. 10577, 3 CFR 1954-1958 Comp., p. 218.

Office of Personnel Management.
John Berry,
Director.

[FR Doc. E9-29191 Filed 12-7-09; 8:45 am]

BILLING CODE 6325-39-P